DEPARTMENT OF AGRICULTURE

Food and Nutrition Service

Agency Information Collection Activities: Proposed Collection; Comment Request—Information Collection for the Summer Food Service Program

AGENCY: Food and Nutrition Service, USDA.

ACTION: Notice.

SUMMARY: In accordance with the Paperwork Reduction Act of 1995, the Food and Nutrition Service announces its intention to request the Office of Management and Budget's (OMB) review of the information collections related to the Summer Food Service Program, OMB number 0584-0280.

DATES: Comments on this notice must be received or postmarked by March 28, 2003.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology. Comments and requests for copies of this information collection may be sent to Mr. Terry Hallberg, Chief, Program Analysis and Monitoring Branch, Child Nutrition Division, Food and Nutrition Service, USDA, 3101 Park Center Drive, Room 640, Alexandria, Virginia 22302.

All responses to this Notice will be summarized and included in the request for OMB approval, and will become a matter of public record.

FOR FURTHER INFORMATION: Contact Mr. Terry Hallberg at (703) 305-2600.

SUPPLEMENTARY INFORMATION: Title: Summer Food Service Program.

OMB Number: 0584-0280.

Expiration Date: 2/28/03.

Type of Request: Extension of a currently approved collection.

Abstract: Section 13 of the National School Lunch Act (NSLA), as amended, authorizes the Summer Food Service Program. The Summer Food Service Program provides assistance to States to initiate and maintain nonprofit food service programs for needy children during the summer months and at other approved times. The food service to be provided under the Summer Food Service Program is intended to serve as a substitute for the National School Lunch Program and the School Breakfast Program during times when school is not in session. Under the program, a sponsor receives reimbursement for serving nutritious, well-balanced meals to eligible children at food service sites. Subsection 13(m) of the NSLA directs that “States and service institutions participating in programs under this section shall keep accounts and records as may be necessary to enable the Secretary to determine whether there has been compliance with this section and the regulations hereunder. Such accounts and records shall be available at any reasonable time for inspection and audit by representatives of the Secretary and shall be preserved for such period of time, not in excess of five years, as the Secretary determines necessary.” Pursuant to this provision, the Food and Nutrition Service has issued Part 225 of Title 7 of the Code of Federal Regulations to implement the Summer Food Service Program.

Respondents: State agencies, sponsors, camps and other sites, and households.

Estimated Number of Respondents: 54 State agencies, 3,789 sponsors, 4,436 camps and other sites, and 69,722 households.

Total Number of Respondents: 78,001.

Average Number of Responses per Respondent: The number of responses is estimated to be 4 responses per respondent per year.

Total Annual Responses: 312,004.

Average Time per Response: 1.219 hours.

Estimated Total Annual Burden on Respondents: The recordkeeping burden hours is estimated at 27,268, and the reporting burden hours is estimated at 353,116, for an estimated total annual burden of 380,384 hours.

Dated: January 21, 2003.
Roberto Salazar,
Administrator.

[FR Doc. 03-1754 Filed 1-24-03; 8:45 am]

BILLING CODE 3410-30-P